DEPARTMENT OF JUSTICE

Drug Enforcement Administration

21 CFR Part 1308

[Docket No. DEA-446]

Schedules of Controlled Substances: Temporary Placement of Six Synthetic Cannabinoids (5F-ADB-, 5F-AMB, 5F-APINACA, ADB-FUBINACA, NDMB-CHMICA and MDMB-FUBINACA) Into Schedule I

Correction

Document 2016-30595 was inadvertently classified a rule and published in the Rules and Regulations section in the issue of December 21, 2016, beginning on page 93595. It should have appeared in the Proposed Rules section.

As a result of the error, an amendment was made to 21 CFR 1308.11 which the DEA did not intend. This classification correction removes added paragraphs (h)(23) through (28) from 21 CFR 1308.11.

Accordingly, 21 CFR part 1308 is corrected as follows:

PART 1308—SCHEDULES OF CONTROLLED SUBSTANCES

1. The authority citation for part 1308 continues to read as follows:

Authority: 21 U.S.C. 811, 812, 871(b), unless otherwise noted.

§ 1308.11 [Corrected]

2. In § 1308.11, remove paragraphs (h)(23) through (28).

[FR Doc. C1-2016-30595 Filed 1-6-17; 8:45 am]

BILLING CODE 1301-00-D